DEPARTMENT OF STATE

[Public Notice 4678]

Bureau of Educational and Cultural Affairs; Program Title: Global Connections and Exchange Program

ACTION: Request for grant proposals.

SUMMARY: The Youth Programs Division, Office of Citizen Exchanges, of the Bureau of Educational and Cultural Affairs announces an open competition for the Global Connections and Exchange program. Public and private non-profit organizations meeting the provisions described in Internal Revenue Code section 26 U.S.C. 501(c)(3) may submit proposals to administer the Global Connections and Exchange program in (1) Azerbaijan and/or (2) for other countries with significant Muslim populations. The Bureau's emphasis for Program (2) is on countries in the Middle East/North Africa, South Asia, East Asia, and sub-Saharan Africa. Countries in Europe and Eurasia (excluding Turkey) are not eligible. The Bureau will award one grant for the Azerbaijan program and one to three grants for the second program. The grantee organizations and/or their partners will select overseas schools and provide them with access to the Internet and related training to develop collaborative school partnerships with U.S. schools. Thematic online projects will enhance learning, research and cross-border communication among participating schools. All Global Connections and Exchange activities will be undertaken in regular and consistent consultation with the Public Affairs Section (PAS) of the U.S. Embassy in each participating country.

Program Information

Overview

Global Connections and Exchange is designed to introduce youth to a broad range of ideas and resources while enhancing the use of information technology in schools. Through this program, overseas secondary schools will expand computer literacy skills, improve general education, and gain a deeper understanding of U.S. society, culture, and values. American students will in turn gain a greater understanding of foreign cultures. The goals of the program are:

• Provide access to information via the Internet that enhances general education.

• Improve educational tools, resources, and learning through the application of information technology, complementary teacher training, online resource development, school partnerships, and student collaboration.

• Prepare a cadre of students with the necessary skills to allow them to apply for other exchange and academic study opportunities in the U.S.

• Generate personal and institutional ties across borders among students, educators and their schools.

• Ensure the sustainability of information technology and Internet access in schools partnered under this grant.

Please refer to the POGI document for program specifics.

Guidelines

Applicants should identify specific objectives and measurable outcomes based on program goals and project specifications provided in the solicitation. Should organizations wish to apply for more than one program, they must submit a separate proposal for each. Each of the two programs will be judged independently. You MUST refer to the individual Project Objectives, Goals and Implementation (POGI) guidelines that are specific to each program.

Program 1—Azerbaijan: Total funding: $460,000. ECA will award one grant. The grant period will be 12 months in duration. The grant is intended to build on a network of schools that have benefited from three years of Bureau grant-funding since 2001.

Program 2—Countries with significant Muslim populations: Total funding: $1,600,000. This program is a continuation of a program started in 2002 and expanded in 2003. The program office encourages creative ideas and innovative approaches to connectivity and exchange. ECA may award one grant for the whole amount or up to three grants for an amount of not less than $500,000 each. Therefore, an organization may apply to conduct the entire program, or it may apply to work on a slightly smaller scale and request a commensurate grant amount. The intent is to provide a small number of grants to organizations working with a broad network of countries. The grant period will be 18 months in duration. Applicants should select the countries with which they plan to work and present a strong justification for their choices in their proposals.

For both programs, applicants must demonstrate their capacity for conducting programs of this nature. This includes administrative infrastructure in the geographic areas from which schools will be selected and resources to link the foreign schools with schools in the U.S. and other countries to facilitate substantive online programs.

The grants to be awarded under this competition will be based upon the quality and responsiveness of proposals to the review criteria presented later in this Request for Grant Proposals (RFGP). The grants should begin on or about August 1, 2004, subject to availability of funds. Sub-grant and consortium arrangements are possibilities.

The Bureau reserves the right to reduce, revise, or increase proposal budgets in accordance with the needs of the program and the availability of funds. Pending successful implementation of this program and the availability of funds in subsequent fiscal years, the Bureau reserves the right to renew this grant for two additional fiscal years, before competing it again.

Budget Guidelines

All organizations applying under this competition must demonstrate in their proposal narrative a minimum of four years experience managing and conducting international exchange programs. Bureau grant guidelines require that organizations with less than four years experience conducting and managing international exchanges be limited to $60,000 in Bureau funding. Since the grant or grants awarded under the competition will exceed the $60,000 ceiling, organizations with less than four years experience, per above, are not eligible to apply under this competition.

Applicants must submit a summary budget that includes all program components as well as breakdowns reflecting both administrative and program budgets. Applicants should provide separate sub-budgets for each program component, phase, location, or activity to provide clarification. Administrative costs, including indirect rates, should be kept to a minimum and cost-shared as much as possible. Please refer to the Solicitation Package for complete budget guidelines and formatting instructions.

Announcement Title and Number: All correspondence with the Bureau concerning this RFGP should reference the above title and number: ECA/PE/C/PY-04-49.

Program Data Requirements: Organizations awarded grants will be required to maintain specific data on program participants and activities in an electronically accessible database format that can be shared with the Bureau as required. As a minimum, the data must include the following:

(1) Name, address, and contact information on all persons who travel internationally on funds provided by the grant or who benefit from the grant funding but do not travel (e.g., teachers trained in country, students collaborating in online projects).

(2) Itineraries of international and domestic travel, providing dates of travel and cities in which any exchange experiences take place.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 62, including the oversight of Responsible Officers and Alternate Responsible Officers, screening and selection of program participants, provision of pre-arrival information and orientation to participants, monitoring of participants, proper maintenance and security of forms, record-keeping, reporting and other requirements. ECA or the Grantee (program office: please specify which) will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW.,Washington, DC 20547, Telephone: (202) 401-9810, FAX: (202) 401-9809.

FOR FURTHER INFORMATION CONTACT: The Office of Youth Programs, ECA/PE/C/PY, Room 568, U.S. Department of State, 301 4th Street, SW., Washington, DC 20547, tel. (202) 260-6520, and fax (202) 203-7529, e-mail OrourkeMM@state.gov to request a Solicitation Package. The Solicitation Package contains detailed award criteria, required application forms, specific budget instructions, and standard guidelines for proposal preparation. Please specify Bureau of Education and Cultural Affairs Program Officer Matt O'Rourke on all other inquiries and correspondence.

Please read the complete Federal Register announcement before sending inquiries or submitting proposals. Once the RFGP deadline has passed, Bureau staff may not discuss this competition with applicants until the proposal review process has been completed.

To Download a Solicitation Package Via Internet:

The entire Solicitation Package may be downloaded from the Bureau's Web site at: http://exchanges.state.gov/education/rfgps. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at: http://exchanges.state.gov /education/rfgps/menu.htm for additional information on how to comply with this new directive.

Shipment and Deadline for Proposals

Important Note: The deadline for this competition is May 17, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place centralized shipping identification and tracking systems that may be accessed via the Internet and delivery people who are identifiable by commonly recognized uniforms and delivery vehicles. Proposals shipped on or before the above deadline, but received at ECA more than seven days after the deadline, will be ineligible for further consideration under this competition. It is each applicant's responsibility to ensure that each package is marked with a legible tracking number to monitor/confirm delivery to ECA via the Internet. Delivery of proposal packages may not be made via local courier service or in person for this competition. Faxed documents will not be accepted at any time. Only proposals submitted as stated above will be considered. Applicants must follow all instructions in the Solicitation Package. The original and 8 copies of each application should be sent to:

U.S. Department of State, SA-44, Bureau of Educational and Cultural Affairs, Ref.: ECA/PE/C/PY-04-49, Program Management, ECA/EX/PM, Room 336, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the State Department Geographic Area Office and Public Diplomacy section at the U.S. Embassy overseas, where appropriate. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should display an understanding of the goals of the program, as reflected in the priorities of this RFGP. Exchange activities should ensure efficient use of program resources. Proposals should demonstrate a commitment to excellence and creativity in the implementation and management of the program.

2. Program planning: A detailed agenda and relevant work plan should explain how objectives will be achieved and should include a timetable for completion of major tasks. Responsibilities of partnering organizations should be clearly described.

3. Ability to achieve program objectives: Objectives should be reasonable, feasible, and flexible. Proposals should clearly demonstrate how the institution will meet the program's goals and plan. The substance of workshops, online projects and exchange activities should be described in detail and included as an attachment.

4. Support of Diversity: Proposals should demonstrate substantive support of the Bureau's policy on diversity. Achievable and relevant features should be cited in both program administration (selection of schools and participants, program venue and program evaluation) and program content. Applicants should refer to the Bureau's Diversity, Freedom and Democracy Guidelines in the Proposal Submission Instructions (PSI).

5. Institutional Capacity/Record/Ability: Applicants should demonstrate knowledge of each country's educational environment and the capacity to recruit U.S. schools. Proposals should present significant experience in developing school-based Internet programs and exhibit an institutional record of successful exchange programs, including responsible fiscal management and full compliance with all reporting requirements as determined by the Bureau's Grants Division. Proposed personnel and institutional resources should be adequate and appropriate to achieve the program goals and objectives.

6. Multiplier Effect/Impact: The program should strengthen long-term mutual understanding and facilitate curriculum reform. Applicants should detail how schools will share newly-acquired knowledge and skills with others.

7. Program Monitoring and Evaluation: Proposals must include a plan and methodology to evaluate the program's successes and challenges, both as the activities unfold and at the end of the program. The evaluation plan should show a clear link between program objectives and expected outcomes, and should include a description of performance indicators and measurement tools. Applicants should provide draft questionnaires or other techniques for use in surveying schools/participants to facilitate the demonstration of results. The grantee organization will indicate its willingness to submit periodic progress reports in accordance with the program office's expectations.

8. Follow-on and Sustainability: Proposals should provide a strategy for the continuation of the schools' capacity to implement Internet access and online linkages without the Bureau's financial support. The proposal should address continued integrated use of computers and the Internet in participating schools.

9. Cost-effectiveness/Cost sharing: The overhead and administrative components of the proposal, including salaries and honoraria, should be kept as low as possible. While lower “per school” figures will be more competitive, the Bureau expects all figures to be realistic. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authorities for this program are provided through the Fulbright-Hays Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 28, 2004.
C. Miller Crouch,
Principal Deputy Assistant Secretary, Bureau of Educational and Cultural Affairs, Department of State.

[FR Doc. 04-7342 Filed 3-31-04; 8:45 am]

BILLING CODE 4710-05-P